NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before January 11, 2013. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting Records Management Services (ACNR) using one of the following means:

Mail: NARA (ACNR), 8601 Adelphi Road, College Park, MD 20740-6001.

Email: request.schedule@nara.gov.

Fax: 301-837-3698.

Requesters must cite the control number, which appears in parentheses after the name of the agency which submitted the schedule, and must provide a mailing address. Those who desire appraisal reports should so indicate in their request.

FOR FURTHER INFORMATION CONTACT: Margaret Hawkins, Director, Records Management Services (ACNR), National Archives and Records Administration, 8601 Adelphi Road, College Park, MD 20740-6001. Telephone: 301-837-1799. Email: request.schedule@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1225.12(e).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of the Homeland Security, Transportation Security Administration (N1-560-12-5, 6 items, 6 temporary items). Correspondence, receipts, payments, contract files, and other records relating to procurement.

2. Department of Homeland Security, Transportation Security Administration (N1-560-12-8, 3 items, 3 temporary items). Directives, records related to developing directives, and property accountability records.

3. Department of Homeland Security, Transportation Security Administration (N1-560-12-16, 5 items, 5 temporary items). Records relating to international aviation matters, foreign aviation technical assistance files, background materials relating to international agreements, routine foreign airport assessments, and related records associated with activities involving foreign countries and international air carriers.

4. Department of State, Bureau of Diplomatic Security (DAA-0059-2011-0001, 15 items, 15 temporary items). Records of the Office of Overseas Protective Operations, including incident reports, copies of policy and program files, training activity files, post folders, budget background records, procurement and contract files, and master files of an electronic information system used to track contractor personnel.

5. Department of State, Bureau of Educational and Cultural Affairs (DAA-0059-2012-0009, 3 items, 3 temporary items). Records related to an international professional exchange program, including project files and copies of grant and agreement files.

6. Department of State, Office of Regional Directors (N1-59-11-3, 7 items, 7 temporary items). Records related to office equipment logs, inventories, and reports; responses to regulatory agency information requests; internal surveys of post operations; action and information memorandums; and weekly activity reports.

7. Department of Treasury, Internal Revenue Service (DAA-0058-2012-0003, 1 item, 1 temporary item). Form used to request an exempt or political organizations' tax information.

8. Department of Treasury, Internal Revenue Service (DAA-0058-2012-0004, 1 item, 1 temporary item). Form used to disclose taxpayers' participation in reportable transactions.

9. Department of Treasury, Internal Revenue Service (DAA-0058-2012-0007, 3 items, 3 temporary items). Master files, outputs, and documentation of an electronic information system used to monitor non-banking financial institutions' financial compliance data.

10. Federal Retirement Thrift Investment Board, Office of Enterprise Risk Management (N1-474-12-8, 2 items, 2 temporary items). Records used to monitor the status of audit recommendations.

11. Federal Retirement Thrift Investment Board, Office of Finance (N1-474-12-11, 2 items, 2 temporary items). Monthly reports on budget status.

12. Federal Retirement Thrift Investment Board, Office of Finance (N1-474-12-12, 1 item, 1 temporary item). Annual inspector general act reports submitted to Congress.

13. Medicare Payment Advisory Commission, Agency-wide (N1-148-13-1, 11 items, 6 temporary items). Comprehensive schedule, including correspondence, meeting records, Web site records, publications, and drafts. Proposed for permanent retention are reports to Congress, Congressional testimony, executive correspondence, public meeting records, publications, and comment letters.

14. Peace Corps, Region (N1-490-12-5, 8 items, 8 temporary items). Safety and security records of overseas posts, including volunteer safety manuals and handbooks, safety and security assessments, emergency action plans, and crime case files.

15. U.S. Election Assistance Commission, Agency-wide (N1-585-12-1, 29 items, 19 temporary items). Records include general correspondence, non-significant case files, administrative materials, and working papers. Also includes records related to the Office of Inspector General, such as working audit files, training records, and non-significant investigative files. Proposed for permanent retention are speeches, reports to Congress, significant audit and investigative files, legal opinions, and calendars of senior leadership.

Dated: December 4, 2012.
Paul M. Wester, Jr.,
Chief Records Officer for the U.S. Government.

[FR Doc. 2012-29955 Filed 12-11-12; 8:45 am]

BILLING CODE 7515-01-P